COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete commodities previously furnished by such agencies.

COMMENTS MUST BE RECEIVED ON OR BEFORE: December 24, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, the entities of the Federal Government identified in this notice for each service will be required to procure the services listed below from nonprofit agencies employing persons who are blind or have other severe disabilities. I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information. The following services are proposed for addition to Procurement List for production by the nonprofit agencies listed:

Services

Base Supply Center, Department of the Army, Fort Leavenworth, Kansas

NPA: Envision, Inc., Wichita, Kansas.

Government Agency: Fort Leavenworth, Kansas, Janitorial/Custodial, Defense Commissary Agency, Western Pacific Region, McClellan, California.

NPA: PRIDE Industries, Roseville, California.

Government Agency: Defense Commissary Agency, Janitorial/Custodial, Missouri Air National Guard, 10800 Lambert International Boulevard, Bridgeton, Missouri.

NPA: MGI Services Corporation, St. Louis, Missouri.

Government Agency: Missouri Air National Guard, Janitorial/Custodial, Naval Reserve Readiness Command, Regional North Central, 715 Apollo Avenue, Minneapolis, Minnesota.

NPA: AccessAbility, Inc., Minneapolis, Minnesota.

Government Agency: Naval Facilities Engineering Command, Janitorial/Custodial, U.S. Marshals Service, Will Rogers World Airport, 5900 Air Cargo Road, Oklahoma City, Oklahoma.

NPA: The Oklahoma League for the Blind, Oklahoma City, Oklahoma.

Government Agency: U.S. Marshals Service, Office Supply Store, At the following locations:

Defense Supply Service—Washington, Hoffman Building II, Alexandria, Virginia; Defense Supply Service—Washington, Army Material Command, Alexandria, Virginia; Defense Supply Service—Washington, Pentagon, Rooms 1E700 and 3C157, Washington, DC.

NPA: Virginia Industries for the Blind, Richmond, Virginia.

Government Agency: Defense Supply Service—Washington.

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities are proposed for deletion from the Procurement List:

Commodities

Tissue, Facial

8540-00-900-4891

Sheath, Ax

8465-01-110-2078

Sheath, Brush Hook (Brush)

8465-01-136-4720

Sheryl D. Kennerly,
Director, Information Management.

[FR Doc. 01-29256 Filed 11-21-01; 8:45 am]

BILLING CODE 6353-01-P